ENVIRONMENTAL PROTECTION AGENCY

[CERCLA-04-2017-3756; FRL-9962-93-Region 4]

Stony Hill Road Site; Wake Forest, Wake County, North Carolina; Notice of Settlement

AGENCY: Environmental Protection Agency.

ACTION: Notice of settlement.

SUMMARY: Under 122(h) of the Comprehensive Environmental Response, Compensation and Liability Act (CERCLA), the United States Environmental Protection Agency has entered into a settlement with Donald and Catherine Albright, concerning the Stony Hill Road Site located in Wake Forest, Wake County, North Carolina. The settlement addresses recovery of CERCLA costs for a cleanup action performed by the EPA at the Site.

DATES: The Agency will consider public comments on the settlement until July 24, 2017 The Agency will consider all comments received and may modify or withdraw its consent to the proposed settlement if comments received disclose facts or considerations which indicate that the proposed settlement is inappropriate, improper, or inadequate.

ADDRESSES: Copies of the settlement are available from the Agency by contacting Ms. Paula V. Painter, Program Analyst, using the contact information provided in this document. Comments may also be submitted by referencing the site's name through one of the following methods:

Internet: https://www.epa.gov/aboutepa/about-epa-region-4-southeast#r4-public-notices.

• U.S. Mail: U.S. Environmental Protection Agency, Superfund Division, Attn: Paula V. Painter, 61 Forsyth Street SW., Atlanta, Georgia 30303.

• Email: painter.paula@epa.gov.

FOR FURTHER INFORMATION CONTACT: Paula V. Painter at (404) 562-8887.

Dated: February 8, 2017.
Anita L. Davis,
Chief, Enforcement and Community Engagement Branch, Superfund Division.

[FR Doc. 2017-13063 Filed 6-21-17; 8:45 am]

BILLING CODE 6560-50-P